DEPARTMENT OF THE INTERIOR

National Park Service

National Register of Historic Places; Notification of Pending Nominations and Related Actions

Nominations for the following properties being considered for listing or related actions in the National Register were received by the National Park Service before December 2, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 4, 2007.

John W. Roberts,
Acting Chief, National Register/National Historic Landmarks Program.

ARKANSAS

Pulaski County

Argenta Historic District (Boundary Increase), Roughly bounded by N. Poplar, 9th St., N. Broadway, W. 4th, Broadway, North Little Rock, 06001217

CALIFORNIA

Alameda County

Altenheim, 1720 MacArthur Blvd., Oakland, 06001218

COLORADO

Larimer County

Shaffer, Henry K. and Mary E., House, 1302 N. Grant Ave., Loveland, 06001219

IOWA

Fremont County

Hunter School, Jct. of IA 275 and IA J18, Tabor, 06001220

MAINE

Aroostook County

Sodergren, John J. and Martha, Homestead, 161 S. Shore Rd., Stockholm, 06001222

Knox County

Camden Great Fire Historic District, Elm and Main Sts., Camden, 06001221

Somerset County

Mercer Union Meetinghouse, Main St., 1/10 mi. W of jct. with ME 2, Mercer, 06001223

York County

Sanford Town Hall (Former), 505 Main St., Springvale, 06001225

MONTANA

Silver Bow County

Parrot Mine Shops Complex, 244 Anaconda Rd., Butte, 06001228

Yellowstone County

Black Otter Trail, Black Otter Trail, Billings, 06001224

NEW YORK

Richmond County

West Bank Light Station, (Light Stations of the United States MPS) In lower New York Bay, 3.3 mi. E of New Dorp Beach, New Dorp Beach, 06001230

Suffolk County

Orient Point Light Station, (Light Stations of the United States MPS) NE tip of Long Island, 1.1 mi. NE of Eastern Terminus of NY 25, Orient, 06001229

NORTH DAKOTA

Cass County

Sprunk Site (32CS04478), Address Restricted, Enderlin, 06001226

RHODE ISLAND

Providence County

Downtown Pawtucket Historic District, (Pawtucket MRA) Roughly bounded by Broad St., Grant St., High St., East Ave. Ext. and Main St., Pawtucket, 06001227

SOUTH CAROLINA

Spartanburg County

Marysville School, Sunny Acres Rd., Pacolet, 06001231

TENNESSEE

Cannon County

Rucker—Mason Farm, (Historic Family Farms in Middle Tennessee MPS) 837 Hare Ln., Porterfield, 06001234

TEXAS

Bexar County

Gunter Hotel, 205 E. Houston St., San Antonio, 06001233

VERMONT

Windham County

Estey Organ Company Factory (Boundary Increase), 68 Birge St., Brattleboro, 06001232

Windsor County

Ascutney Mill Dam Historic District, 55 and 57 Ascutney St., Windsor, 06001236

Ludlow Village Historic District, Main St., Depot St., Ludlow, 06001235

[FR Doc. E6-21663 Filed 12-19-06; 8:45 am]

BILLING CODE 4312-51-P